DEPARTMENT OF JUSTICE

Notice of Lodging of Proposed Consent Decree Under the Clean Air Act and EPCRA

On December 9, 2019, the Department of Justice lodged a proposed Consent Decree with the United States District Court for the Eastern District of California in the lawsuit entitled United States and San Joaquin Valley Unified Air Pollution Control District v. Kern Oil & Refining Co., Civil Action No. 2:19-cv-02460-KJM-CKD.

This case involves claims for alleged violations of Section 111 of the Clean Air Act (“CAA”), 42 U.S.C. 7411 and Section 313 of the Emergency Planning and Community Right-To-Know Act, 42 U.S.C. 11023 (“EPCRA”), with respect to Kern Oil's petroleum refinery (“Facility”) located in Bakersfield, California. The complaint seeks injunctive relief and civil penalties stemming from Kern Oil's failure to meet new source performance standards monitoring and reporting requirements under the CAA and failure to meet hazardous substance reporting requirements under EPCRA. The settlement requires Kern to pay a civil penalty of $500,000 that will be divided evenly with the United States and San Joaquin Valley Unified Air Pollution Control District and requires Kern Oil to comply with all monitoring and reporting requirements and other injunctive relief geared towards ensuring the Facility remains in compliance with the law. Additionally, the settlement requires Kern Oil to perform two supplemental environmental projects, estimated to cost at least $100,000 each, for which Kern Oil will purchase and operate for five years an infrared gas-imaging camera and purchase emergency responder equipment for the Kern County Public Health Services Department and the Kern County Fire Department.

The publication of this notice opens a period for public comment on the Consent Decree. Comments should be addressed to the Assistant Attorney General, Environment and Natural Resources Division, and should refer to United States, et al. v. Kern Oil and Refining Co., D.J. Ref. No. 90-5-2-1-10464/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $11.75 (25 cents per page reproduction cost) payable to the United States Treasury.

Lori Jonas,
Assistant Section Chief, Environmental Enforcement Section, Environment and Natural Resources Division.

[FR Doc. 2019-26967 Filed 12-13-19; 8:45 am]

BILLING CODE 4410-15-P